DEPARTMENT OF TRANSPORTATION

National Highway Traffic Safety Administration

[Docket No. NHTSA-2025-0721]

Agency Information Collection Activities; Notice and Request for Comment; Fatality Analysis Reporting System (FARS) and Non-Traffic Surveillance (NTS)

AGENCY: National Highway Traffic Safety Administration (NHTSA), Department of Transportation (DOT).

ACTION: Notice and request for comments on a request for extension of a currently approved information collection.

SUMMARY: NHTSA invites public comments about our intention to request approval from the Office of Management and Budget (OMB) for an extension of a currently approved information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval that collect data on motor vehicle crashes involving fatalities.

DATES: Comments must be submitted on or before January 20, 2026.

ADDRESSES: You may submit comments identified by the Docket No. NHTSA-2025-0721 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Barbara Rhea, State Data Reporting Systems Division (NSA-120), (202) 560-6724, National Highway Traffic Safety Administration, Room W53-304, U.S. Department of Transportation, 1200 New Jersey Avenue SE, Washington, DC 20590. Please identify the relevant collection of information by referring to its OMB Control Number (2127-0006).

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: Fatality Analysis Reporting System (FARS) and Non-Traffic Surveillance (NTS).

OMB Control Number: 2127-0006.

Form Number(s): NHTSA Form 2100.

Type of Request: Revision of a currently approved collection of information.

Type of Review Requested: Regular.

Requested Expiration Date of Approval: 3 years from date of approval.

Summary of the Collection of Information

NHTSA is authorized by 49 U.S.C. 30182 and 23 U.S.C. 402, 403 & 405, the Infrastructure Investment and Jobs Act (IIJA) (Pub. L. 117-58) and the Cameron Gulbransen Kids Transportation Safety Act of 2007 (K.T. Safety Act) (Pub. L. 110-189) to collect data on motor vehicle traffic crashes to aid in the identification of issues and the development, implementation, and evaluation of motor vehicle and highway safety countermeasures to reduce fatalities and the property damage associated with motor vehicle crashes. Using this authority, NHTSA established the Fatal Analysis Reporting System (FARS) and the Non-Traffic Surveillance (NTS), which collect data on fatal motor vehicle traffic crashes. Among other things, the information aids in the establishment and enforcement of motor vehicle regulations and highway safety programs.

The FARS data collection started in 1975 and is a census of all defined crashes involving fatalities in the country. The FARS collects annual data from all 50 States, the District of Columbia, and Puerto Rico under cooperative agreements. State employees collect and process information from existing State documents including police crash reports as well as driver license, vehicle registration, highway roadway classification, death certificates, toxicology reports and Emergency Medical Service reports. NHTSA uses FARS data for research and analysis in support of motor vehicle regulations and highway safety programs. This supports NHTSA's mission by providing the agency vital information about fatal crashes. The FARS data comprises a national database that tracks trends in fatalities and quantifying problems in highway safety.

The Non-Traffic Surveillance (NTS) is an automated data collection effort for collecting information about non-traffic crashes and non-crash incidents. The NTS data provide counts and details regarding fatalities and injuries that occur in non-traffic crashes and in non-crash incidents. The NTS non-traffic crash data are obtained through NHTSA's data collection efforts for the Crash Report Sampling System (CRSS),¹ the Crash Investigation Sampling System (CISS),² and FARS. NTS also includes data outside of NHTSA's own data collections. NTS' non-crash injury data are based upon emergency department records from a special study conducted by the Consumer Product Safety Commission's National Electronic Injury Surveillance System (NEISS) All Injury Program. NTS non-crash fatality data are derived from death certificate information from the Centers for Disease Control's National Vital Statistics System. This ICR only seeks approval for the collection of NTS data for NTS that comes from the FARS data collection effort.

¹ The CRSS information collection is assigned OMB Control No. 2127-0714.

² The CISS information collection is assigned OMB Control No. 2127-0706.

Description of the Need for the Information and Proposed Use of the Information

NHTSA's mission is to save lives, prevent injuries, and reduce economic losses resulting from motor vehicle crashes. In order to accomplish this mission, NHTSA needs high-quality data on motor vehicle crashes. The FARS supports this mission by providing the agency with vital information about all crashes involving fatalities that occur on our nation's roadways. The FARS does this by collection national fatality information directly from existing State files and documents and aggregate them for research and analysis.

FARS data is used extensively by NHTSA program and research offices, other DOT modes, States, and local jurisdictions. The highway research community uses the FARS data for trend analysis, problem identification, and program evaluation. Congress uses the FARS data for making decisions concerning safety programs. The FARS data are also available upon request to anyone interested in highway safety.

Affected Public: States, the District of Columbia, and Puerto Rico.

Estimated Number of Respondents: 52.

Frequency: On occasion.

NHTSA has established cooperative agreements with the 50 States, the District of Columbia, and Puerto Rico to report a standard set of data on each fatal crash in their jurisdictions. State respondents report based on the occurrence of crashes involving fatalities. When a fatal crash occurs, State employees extract and transcribe information from existing files and input the information into FARS, with the frequency of reporting determined by the frequency of fatal crashes occurring in the respondent's jurisdiction.

Estimated Total Annual Burden Hours: 118,762.

For both FARS and NTS, there are 52 respondents (50 States, the District of Columbia, and Puerto Rico) reporting on approximately 38,536 fatal crash cases per year. Of these cases, 37,951 are reported to FARS and approximately 585 are identified and reported as non-traffic fatal crashes (NTS).

The annual burden has increased from when NHTSA last sought approval for this collection from 107,209 to 118,762 hours (an increase of 11,553 hours). The adjustment in burden hours is due to the increase in the complexity of coding the FARS cases and an increase in the number of fatal crashes across most States. The increase also accounts for the time to process the non-traffic fatalities for NTS. Furthermore, while time for manually inputting data has decreased with States implementing systems to electronically transfer police report data that prepopulate NHTSA's data systems, including FARS,³ the overall burden increased because, over the past two years, there has been an increase in staff turnover at the State level, adding an increase in administrative hours, training, and coding assistance to continue operations.

³ The EDT information collection is assigned OMB Control No. 2127-0753.

The State employee (or employees depending on the number of fatal crashes per year occurring in the jurisdiction) acquires and codes the required information, as fatal crashes occur, in the FARS records-based system. For FARS, although there is only one information collection, NHTSA calculates the total burden using four burden categories: (1) FARS Manual Protocol Case Entry, (2) overhead burden for FARS in States without EDT, (3) FARS coding in States with EDT, and (4) FARS EDT mapping maintenance.

FARS Manual Protocol Case Entry

NHTSA estimates that there are currently 30 States providing crash reports (including case materials) via manual protocol. For these respondents, NHTSA estimates that it takes analysts approximately 4.25 hours to collect fatal crash information and code a FARS case entry in the FARS data entry system. This estimate is based on historical knowledge of the average number of analysts, full- and part-time, back-up analysts, FARS supervisors, and coding assistance respondents needed to complete an annual FARS file. NHTSA estimates that, on average, 18,007 cases are collected and coded annually using this access method. Therefore, NHTSA estimates the total annual burden associated with FARS Manual Protocol case entry to be approximately 76,530 hours annually (18,007 cases × 4.25 hours = 76,530 hours).

FARS Manual Protocol In-Kind Process Support

In addition to the time for each crash entry, some respondents using the FARS Manual Protocol are also expected to incur overhead burden time. NHTSA estimates that 8 States provide overhead support and that the total annual burden for this support is 2,000 hours, or an average of 250 hours per respondent. This burden includes hours spent by supervisors and State managers responding to and supporting FARS operations that are not accounted for in the coding hours every year, including supporting data acquisition and other associated tasks.

FARS EDT Mapping Maintenance

NHTSA estimates that there are approximately 22 States already participating in Electronic Data Transfer (EDT). For these respondents, PAR data are automatically transferred from the State's centralized crash database to NHTSA's CDAN system. The crash data are then prepopulated in NHTSA's crash data systems, including FARS.

NHTSA estimates the burden to maintain the protocol is estimated at two hours per State (respondent) or a total of 44 hours per year (22 States × 2 hours). This represents time to monitor case quality and timeliness, conduct quality control processes, and maintain communications with NHTSA and its contractors to ensure accurate data transfer. The specific task associated with this maintenance of effort is referred to as “mapping”. Upon becoming an EDT State, the respondent participates in an initial mapping process. The process requires an alignment between the State Specific Coding Instructions and the FARS Coding and Validation guidance.⁴ During quality control processes, which are conducted year-round, data anomalies may be detected, at which time action must be taken to review and ultimately correct the shifts in the data. This process, while managed by the Office of Data Acquisition, requires concurrence from the respondent, which is what the burden represents.

⁴ The burden associated with this task is accounted for under NHTSA ICR that covers EDT (OMB Control Number 2127-0753).

FARS EDT Manual Case Entry for Supporting Case Materials

Participation in EDT reduces but does not eliminate the manual entry of data into FARS. Although information from PARs is pre-populated into the system, EDT State respondents must still collect and enter supporting case materials, such as driver records, toxicology reports, death certificate information, and coroner's/medical examiners reports to complete a FARS case. NHTSA estimates that completing each case entry in an EDT States takes 2 hours, which is slightly less than half the time the process is estimated to take for non-EDT States. On average, NHTSA estimates that 19,944 FARS cases for the 22 EDT States will have pre-populated data. Accordingly, NHTSA estimates the total burden associated with completing the FARS case entries for these cases to be 39,888 hours (19,944 cases × 2 hours = 39,888 hours).

Total Burden for FARS

The collective and cumulative efforts of all 52 respondents results in an estimated annual burden of 118,462 hours (76,530 hours + 2,000 hours + 44 hours + 39,888 hours). Table 1 provides a summary of the burden associated with FARS.

Table 1—Burden Category Estimates and Total Burden for FARS
Burden category | Number of responses | Number of respondents | Burden hours per response | Total annual burden hours per burden category
FARS EDT (mapping maintenance) | N/A | 22 | 2 | 44
FARS EDT Manual Case Entry (supporting case materials) | 19,944 | 22 | 2 | 39,888
FARS Manual Protocol Case Entry Process (including supporting case materials) | 18,007 | 30 | 4.25 | 76,530
FARS Manual Protocol In-kind Process Support | N/A | 8 | 250 | 2,000
Total | 37,951 | 52 | 3.13 | 118,462

NTS Data Collection

Non-traffic fatal crashes are collected by approximately 25 States as part of the FARS data collection process. NHTSA estimates that it takes twelve hours per respondent annually to account for NTS cases. Therefore, NHTSA estimates that the total burden for NTS case identification and coding is 300 hours annually (25 respondents × 12 hours).

Burden for FARS and NTS

NHTSA estimates the total annual burden for the two information collections, FARS and NTS, is 118,762 hours per year (118,462 hours + 300 hours). Table 2 provides a summary of the burdens for the two information collections.

Table 2—Summary of Burdens for FARS and NTS
Information collection | Responses | Respondents | Burden per response | Hours per respondent | Total burden hours
FARS | 37,951 | 52 | 3.13 | 2,278.12 | 118,462
NTS | 585 | 25 | 0.5 | 12 | 300
Total | 38,239 |  |  |  | 118,762

To estimate the labor costs associated with the two information collections, NHTSA looked primarily at the annualized reimbursements NHTSA provides to States under the FARS Cooperative Agreements and the amount of “in-kind” kind funding provided by the States. Annually, NHTSA provides approximately $7.1 million to States to go toward the labor costs associated with this information collection. Additionally, because collecting fatal information is mutually beneficial to the Federal Government and the respondents, eight State respondents have provided “in-kind funding” to cover State overhead costs associated with managing FARS operations. While “in-kind funding” varies from respondent to respondent, the average annualized labor costs are estimated at $50,000 per in-kind respondent, for a total of $400,000 in annual in-kind contributions (8 States × $50,000). Therefore, NHTSA estimates the total cost associated with labor hours to be approximately $7.5 million per year ($7.1 million + $400K), or $63.15 per hour ($7.5 million ÷ 118,762 hours).

Estimated Total Annual Burden Cost: $0.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29A.

Chou-Lin Chen,
Associate Administrator for the National Center for Statistics and Analysis.

[FR Doc. 2025-20099 Filed 11-17-25; 8:45 am]

BILLING CODE 4910-59-P